DEPARTMENT OF STATE

[Public Notice: 11499]

Designation of Ali Mohamed Rage and Abdikadir Mohamed Abdikadir as Specially Designated Global Terrorists

Acting under the authority of and in accordance with section 1(a)(ii)(B) of E.O. 13224, I hereby determine that (a) the person known as Ali Mohamed Rage, also known as Ali Mohammed Rage, also known as Ali Dheere, also known as Ali Dhere, and (b) the person known as Abdikadir Mohamed Abdikadir, also known as Abdukadir Mohamed Abdukadir, also known as Abdulkadir Mohamed Abdulkadir, also known as Ikrima, are leaders of al-Shabaab, a group whose property and interests in property are blocked pursuant to a prior determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to these determinations who might have a constitutional presence in the United States, because to do so would render ineffectual the measures authorized in the Order.

This determination shall be published in the Federal Register.

Authority: E.O. 13224, Section 1(a)(ii).

Dated: July 28, 2021.
Antony J. Blinken,
Secretary of State.

[FR Doc. 2021-17284 Filed 8-11-21; 8:45 am]

BILLING CODE 4710-AD-P